ENVIRONMENTAL PROTECTION AGENCY

[FRL-9103-4]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1156.11; NSPS for Synthetic Fiber Production Facilities; 40 CFR part 60, subpart A and 40 CFR part 60, subpart HHH; was approved on 12/01/2009; OMB Number 2060-0059; expires on 12/31/2012; Approved without change.

EPA ICR Number 0659.11; NSPS for Surface Coating of Large Appliances; 40 CFR part 60, subpart A and 40 CFR part 60, subpart SS; was approved on 12/01/2009; OMB Number 2060-0108; expires on 12/31/2012; Approved without change.

EPA ICR Number 1901.04; NSPS for Emission Guidelines and Compliance Times for Small Municipal Waste Combustion Units Constructed on or before August 30, 1999; 40 CFR part 60, subpart A and 40 CFR part 60, subpart BBBB; was approved on 12/01/2009; OMB Number 2060-0424; expires on 12/31/2012; Approved without change.

EPA ICR Number 0663.10; NSPS for Beverage Can Surface Coating; 40 CFR part 60, subpart A and 40 CFR part 60, subpart WW; was approved on 12/01/2009; OMB Number 2060-0001; expires on 12/31/2012; Approved without change.

EPA ICR Number 2344.03; Auto-Body Compliance Assessment Pilot Project (New); was approved on 12/01/2009; OMB Number 2020-0034; expires on 08/31/2012; Approved without change.

EPA ICR Number 2299.02; Tribal Capacity: Determining Status of Technology to Publish and Exchange Environmental Data; was approved on 12/06/2009; OMB Number 2025-0011; expires on 12/31/2010; Approved with change.

EPA ICR Number 2357.02; Regulations.gov Exchange Information Collection; was approved on 12/08/2009; OMB Number 2025-0008; expires on 12/31/2012; Approved without change.

EPA ICR Number 2362.01; Information Collection Effort for New and Existing Coal- and Oil-fired Electric Utility Steam Generating Units (New Collection); was approved on 12/24/2009; OMB Number 2060-0631; expires on 12/31/2012; Approved with change.

EPA ICR Number 2076.03; EPA's National Partnership for Environmental Priorities (Renewal); was approved on 12/30/2009; OMB Number 2050-0190; expires on 12/31/2012; Approved with change.

Comment Filed

EPA ICR Number 2370.01; Ambient Oxides of Sulphur Monitoring Regulations: Revisions to Network Design Requirements (Proposed Rule); in 40 CFR part 58; OMB filed comment on 12/11/2009.

Dated: January 4, 2010.
John Moses,
Director, Collections Strategies Division.

[FR Doc. 2010-733 Filed 1-14-10; 8:45 am]

BILLING CODE 6560-50-P